DEPARTMENT OF TRANSPORTATION

Federal Aviation Administration

[Docket No. FAA-2022-1172]

Agency Information Collection Activities: Requests for Comments; Clearance of Renewed Approval of Information Collection: FAA Acquisition Management System (FAAAMS)

AGENCY: Federal Aviation Administration (FAA), DOT.

ACTION: Notice and request for comments.

SUMMARY: In accordance with the Paperwork Reduction Act of 1995, FAA invites public comments about our intention to request the Office of Management and Budget (OMB) approval to renew an information collection. The Federal Register Notice with a 60-day comment period soliciting comments on the following collection of information was published on September 1, 2022. The collection involves the FAA Acquisition Management System (FAAAMS) and information collected in response to solicitations and post award contract administration. The information to be collected is necessary to solicit, award, and administer contracts for supplies, equipment, services, facilities, and real property to fulfill the FAA's mission.

DATES: Written comments should be submitted by January 20, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Stephen Mangan by email at: Stephen.mangan@faa.gov; phone: 405-954-4137.

SUPPLEMENTARY INFORMATION: Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information.

OMB Control Number: 2120-0595.

Title: FAA Acquisition Management System (FAAAMS).

Type of Review: Renewal of an information collection.

Background: The Federal Register Notice with a 60-day comment period soliciting comments on the following collection of information was published on September 1, 2022 (87 FR 53283). No comments were received in response to this Notice. The FAAAMS establishes policies and internal procedures for FAA acquisition. Section 348 of Public Law 104-50 directed FAA to establish an acquisition system. The information collection is carried out as an integral part of FAA's acquisition process. Various portions of the AMS describe information needed from vendors seeking or already doing business with FAA. FAA contracting offices collect the information to plan, solicit, award, administer and close individual contracts. FAA's small business office collects information to promote and increase small business participation in FAA contracts. Activities for this information collection involve the reporting of information. Responses are voluntary in some cases, but in other cases are required to obtain a benefit (such as responses to Requests for Offers leading to award of a contract). These information collection practices aid in ensuring AMS compliance at large.

FAAAMS requires information collection through a series of forms in the areas of (1) Solicitations and (2) Post-Award Contract Administration. The specific information collected varies by the nature of each form. It is important to note the FAA uses forms specific to the agency. FAA uses forms similar to government wide standard forms. The FAA forms differ from standard forms as they are tailored or prescribed by FAAAMS. Though the forms differ, they do however largely mirror their counterpart standard forms while containing minor editorial changes to account for them being prescribed by the FAAAMS.

IC-1 Solicitations—The FAA utilizes solicitations to evaluate vendor-specific technical solutions, capabilities, and other qualifications such as subcontracting plans that may result in the award of a contract for a defined FAA need. The extent and nature of the information required from vendors varies depending on the nature of the goods and/or services procured, as well as the size and complexity of the FAA requirements.

Respondents: Contractors with an interest in or involved with FAA Acquisitions: 3,461.

Frequency: 1 time.

Estimated Average Burden per Response: 3 hours.

Estimated Total Annual Burden: 10,383 hours.

IC-2 Post-Award Contract Administration—Depending on the complexity and size of the contract, various activities are ongoing after contract award in areas such as bonds (e.g., construction contracts), small business subcontracting (e.g. applying to large businesses), the tracking and management of Government Property, and invoicing. Contract modifications vary from routine administrative updates to major additions of work.

Respondents: Contractors with an interest in or involved with FAA Acquisitions: 30,177.

Frequency: 3 times.

Estimated Average Burden per Response: 23 hours.

Estimated Total Annual Burden: 702,213 hours.

Issued in Washington, DC, on December 20, 2022.
Michelle G. Brune,
Division Manager, Acquisition Policy Division (AAP-100).

[FR Doc. 2022-28102 Filed 12-23-22; 8:45 am]

BILLING CODE 4910-13-P